DEPARTMENT OF HEALTH AND HUMAN SERVICES

Health Resources and Services Administration

White House Initiative on Asian Americans and Pacific Islanders, President's Advisory Commission; Notice of Meeting

In accordance with section 10(a)(2) of the Federal Advisory Committee Act (Public Law 92-463), announcement is made of the following National Advisory body scheduled to conduct a public meeting during the month August 2000.

Name: President's Advisory Commission on Asian Americans and Pacific Islanders (AAPIs)

Date and Time: August 21, 2000; 2:15 p.m.—3:15 p.m. PST

Place: International Community Health Services, 720 8th Avenue South, Suite 100, Seattle, WA 98104

The meeting is open to the public.

The President's Advisory Commission on AAPIs will conduct a public meeting on August 21, from 2:15 p.m. to 3:15 p.m. PST inclusive.

Agenda items will include, but will not be limited to: approval of June Commission conference call meeting minutes; reports from subcommittees; administrative tasks; deadlines; and upcoming Town Hall and Commission meetings.

The purpose of the Commission is to advise the President on the issues facing Asian Americans and Pacific Islanders (AAPIs). The President's Advisory Commission on AAPIs will be seated through June 7, 2001.

Requests to address the Commission should be made in writing and should include the name, address, telephone number and business or professional affiliation of the interested party. Individuals or groups addressing similar issues are encouraged to combine comments and present through a single representative. The allocation of time for remarks may be adjusted to accommodate the level of expressed interest. Written requests should be faxed to (301) 443-0259.

Anyone who has interest in joining any portion of the meeting or who requires additional information about the Commission should contact: Mr. Tyson Nakashima, Office of the White House Initiative on AAPIs, Parklawn Building, Room 10-42, 5600 Fishers Lane, Rockville, MD, 20857, Telephone (301) 443-2492. Anyone who requires special assistance, such as sign language interpretation or other reasonable accommodations, should contact Mr. Nakashima no later than August 15, 2000.

Dated: August 4, 2000.
Dolores R. Etherith,
Acting Director, Division of Policy Review and Coordination.

[FR Doc. 00-20465 Filed 8-11-00; 8:45 am]

BILLING CODE 4160-15-P